INTERNATIONAL TRADE COMMISSION

[Investigation No. 731-TA-747 (Review)]

Fresh Tomatoes from Mexico; Import Investigation

AGENCY: United States International Trade Commission.

ACTION: Revised schedule for the subject investigation.

EFFECTIVE DATE: May 17, 2002.

FOR FURTHER INFORMATION CONTACT: Elizabeth Haines (202-205-3200), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS-ON-LINE) at http://dockets.usitc.gov/eol/public.

SUPPLEMENTARY INFORMATION: On May 2, 2002, the Commission established a schedule for the conduct of the final phase of the subject investigation (67 FR 30962, May 8, 2002). Subsequently, the Department of Commerce extended the date for its final determination in its sunset review of the suspended antidumping duty investigation on fresh tomatoes from Mexico from May 29, 2002, to August 27, 2002 (67 FR 35099, May 17, 2002). Pursuant to 19 U.S.C. 1675(c)(5)(B), the Commission is revising its schedule to conform with Commerce's new schedule.

The Commission's new schedule for the investigation is as follows: requests to appear at the hearing must be filed with the Secretary to the Commission not later than September 24, 2002; the prehearing conference will be held at the U.S. International Trade Commission Building at 9:30 a.m. on September 26, 2002; the prehearing staff report will be placed in the nonpublic record on September 13, 2002; the deadline for filing prehearing briefs is September 24, 2002; the hearing will be held at the U.S. International Trade Commission Building at 9:30 a.m. on October 3, 2002; the deadline for filing posthearing briefs is October 15, 2002; the Commission will make its final release of information on November 1, 2002; and final party comments are due on November 5, 2002.

For further information concerning this investigation see the Commission's notice cited above and the Commission's Rules of Practice and Procedure, part 201, subparts A through E (19 CFR part 201), and part 207, subparts A and C (19 CFR part 207).

Authority: This review is being conducted under authority of title VII of the Tariff Act of 1930; this notice is published pursuant to section 207.62 of the Commission's rules.

Issued: May 23, 2002.
By order of the Commission.
Marilyn R. Abbott,
Secretary.

[FR Doc. 02-13415 Filed 5-29-02; 8:45 am]

BILLING CODE 7020-02-P